RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Employer's Quarterly Report of Contributions under the Railroad Unemployment Insurance Act; OMB 3220-0012.

Under Section 8 of the Railroad Unemployment Insurance Act (RUIA) (45 U.S.C. 231g), as amended by the Railroad Unemployment Improvement Act of 1988 (Pub. L. 100-647), the RRB determines the amount of an employer's contribution, primarily on the basis of the RUIA benefits paid, both unemployment and sickness, to the employees of the railroad employer. These experienced-based contributions take into account the frequency, volume, and duration of the employees' unemployment and sickness benefits. Each employer's contribution rate includes a component for administrative expenses as well as a component to cover costs shared by all employers. The regulations prescribing the manner and conditions for remitting the contributions and for adjusting overpayments or underpayments of contributions are contained in 20 CFR 345.

RRB Form DC-1, Employer's Quarterly Report of Contributions under the Railroad Unemployment Insurance Act, is used by railroad employers to report and remit their quarterly contributions to the RRB. Employers can use either the manual version of the form or its internet equivalent. One response is requested quarterly of each respondent and completion is mandatory. The RRB proposes no changes to the manual and electronic versions of Form DC-1.

Estimate of Annual Respondent Burden
Form No. | Annual responses | Time (minutes) | Burden (hours)
DC-1 (RRB.Gov) | 720 | 25 | 300
DC-1 (Pay.Gov) | 1,680 | 25 | 700
Total | 2,400 |  | 1,000

2. Title and purpose of information collection: Application for Survivor Death Benefits; OMB 3220-0031.

Under Section 6 of the Railroad Retirement Act (RRA) (45 U.S.C. 231e), lump-sum death benefits are payable to surviving widow(er)s, children, and certain other dependents. Lump-sum death benefits are payable after the death of a railroad employee only if there are no qualified survivors of the employee immediately eligible for annuities. With the exception of the residual death benefit, eligibility for survivor benefits depends on whether the deceased employee was “insured” under the RRA at the time of death. If the deceased employee was not insured, jurisdiction of any survivor benefits payable is transferred to the Social Security Administration and survivor benefits are paid by that agency instead of the RRB. The requirements for applying for benefits are prescribed in 20 CFR 217, 219, and 234.

The collection obtains the information required by the RRB to determine entitlement to and amount of the survivor death benefits applied for. To collect the information, the RRB uses Forms AA-21, Application for Lump-Sum Death Payment and Annuities Unpaid at Death; AA-21cert, Application Summary and Certification; G-131, Authorization of Payment and Release of All Claims to a Death Benefit or Accrued Annuity Payment; and G-273a, Funeral Director's Statement of Burial Charges. One response is requested of each respondent. Completion is required to obtain benefits.

The RRB proposes the following changes to Forms AA-21and G-273a:

• Forms AA-21 and—add the RRB headquarters mailing address in Section 10, How to Return Your Application, of Form AA-21 in order to provide address information for returning completed forms.

• Form G-273a—add the RRB headquarters mailing address to the last sentence of the second paragraph of Form G-273a above Item 1, Date of Death, in order to provide address information for returning completed forms.

The RRB proposes no changes to Form AA-cert or Form G-131.

Estimate of Annual Respondent Burden
Form No. | Annual responses | Time (minutes) | Burden (hours)
AA-21cert with assistance | 3,500 | 20 | 1,167
AA-21 without assistance | 200 | 40 | 133
G-131 | 100 | 5 | 8
G-273a | 4,000 | 10 | 667
Total | 7,800 |  | 1,975

3. Title and purpose of information collection: Application for Spouse Annuity under the Railroad Retirement Act; OMB 3220-0042.

Section 2(c) of the Railroad Retirement Act (RRA) (45 U.S.C. 231a), provides for the payment of annuities to spouses of railroad retirement annuitants who meet the requirements under the RRA. The age requirements for a spouse annuity depend on the employee's age, date of retirement, and years of railroad service. The requirements relating to the annuities are prescribed in 20 CFR 216, 218, 219, 232, 234, and 295.

To collect the information needed to help determine an applicant's entitlement to, and the amount of, a spouse annuity the RRB uses non-OMB Form AA-3, Application for Spouse/Divorced Spouse Annuity, and electronic OMB Forms AA-3cert, Application Summary and Certification, and AA-3sum, Application Summary.

The AA-3 application process gathers information from an applicant about their marital history, work history, benefits from other government agencies, and Medicare entitlement for a spouse annuity. An RRB representative interviews the applicant either at a field office (preferred), an itinerant point, or by telephone. During the interview, the RRB representative enters the information obtained into an on-line information system. Upon completion of the interview, the system generates, for the applicant's review, either Form AA-3cert or AA-3sum, which is a summary of the information that the applicant provided or verified. Form AA-3cert, Application Summary and Certification, requires a traditional pen and ink “wet” signature. Form AA-3sum, Application Summary, documents an alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of Form AA-3 is used. One response is requested of each respondent. Completion of the form is required to obtain a benefit.

The RRB proposes no changes to Forms AA-3cert and AA-3sum.

Estimate of Annual Respondent Burden
Form No. | Annual responses | Time (minutes) | Burden (hours)
Form AA-3cert (Ink Signature) | 6,180 | 30 | 3,090
Form AA-3sum (Attestation) | 3,520 | 29 | 1,701
Total | 9,700 |  | 4,791

4. Title and purpose of information collection: Statement of Claimant or Other Person; OMB 3220-0183.

To support an application for an annuity under Section 2 of the Railroad Retirement Act (RRA) (45 U.S.C. 231a) or for unemployment benefits under Section 2 of the Railroad Unemployment Insurance Act (RUIA) (45 U.S.C. 352), pertinent information and proofs must be furnished for the RRB to determine benefit entitlement. Circumstances may require an applicant or other person(s) having knowledge of facts relevant to the applicant's eligibility for an annuity or benefits to provide written statements supplementing or changing statements previously provided by the applicant. Under the railroad retirement program these statements may relate to a change in an annuity beginning date(s), date of marriage(s), birth(s), prior railroad or non-railroad employment, an applicant's request for reconsideration of an unfavorable RRB eligibility determination for an annuity or various other matters. The statements may also be used by the RRB to secure a variety of information needed to determine eligibility to unemployment and sickness benefits. Procedures related to providing information needed for RRA annuity or RUIA benefit eligibility determinations are prescribed in 20 CFR 217 and 320 respectively.

The RRB utilizes Form G-93, Statement of Claimant or Other Person, to obtain from applicants or other persons, the supplemental or corrective information needed to determine applicant eligibility for an RRA annuity or RUIA benefits. Completion is voluntary. One response is requested of each respondent. The RRB proposes no changes to Form G-93.

Estimate of Annual Respondent Burden
Form No. | Annual responses | Time (minutes) ¹ | Burden (hours)
G-93 | 1,300 | 15 | 325

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2022-03164 Filed 2-14-22; 8:45 am]

BILLING CODE 7905-01-P